DEPARTMENT OF HEALTH AND HUMAN SERVICES

Health Resources and Services Administration

Proposed Information Collection Activity: Comment Request

The Health Resources and Services Administration (HRSA) periodically publishes abstracts of information collection submitted for review to the Office of Management and Budget (OMB) in compliance with the Paperwork Reduction Act of 1995 (44 U.S.C. Chapter 35). To request a copy of clearance requests submitted to OMB for review, email paperwork@hrsa.gov or call the HRSA Reports Clearance Office at (301) 443-1984.

The following request has been submitted to the Office of Management and Budget for review under the Paperwork Reduction Act of 1995:

Proposed Project: Maternal, Infant, and Early Childhood Home Visiting Program Information System: Data Collection Forms (OMB No. 0915-xxxx)—[New]

On March 23, 2010, the President signed into law the Patient Protection and Affordable Care Act of 2010 (Pub. L. 111-148), legislation designed to make quality, affordable, health care available to all Americans, reduce costs, improve health care quality, enhance disease prevention, and strengthen the health care workforce. Through a provision authorizing the creation of the Maternal, Infant, and Early Childhood Home Visiting (MIECHV) Program, the Act responds to the diverse needs of children and families in communities at risk and provides an unprecedented opportunity for collaboration and partnership at the Federal, State, Tribal, and community levels to improve health and development outcomes for at-risk children through evidence-based home visiting programs. The MIECHV Program is designed: (1) To strengthen and improve the programs and activities carried out under Title V; (2) to improve coordination of services for at-risk communities; and (3) to identify and provide comprehensive services to improve outcomes for families who reside in at-risk communities. Formula-based and competitive grants have been awarded to States, other eligible jurisdictions, and, under a legislative provision setting aside dedicated funds for a Tribal MIECHV program, to eligible Indian Tribes and consortia of Tribes, Tribal Organizations, and Urban Indian Organizations. Competitive grants to non-profit organizations to provide home visiting in certain States are anticipated.

The Social Security Act, Title V, Section 511 (42 U.S.C. 711), as amended by the Patient Protection and Affordable Care Act of 2010, requires that MIECHV grantees collect both socio-demographic data and data to measure improvements for eligible families in six specified areas (referred to as “benchmark areas”) that encompass the major goals for the program. The Supplemental Information Request for the Submission of the Updated State Plan for a State Home Visiting Program (SIR), published on February 8, 2011, further listed a variety of constructs under each benchmark area for which grantees were to select and submit relevant performance measures. Per Section 511(d)(1)(B)(i) of the legislation, no later than 30 days after the end of the third year of the program, grantees are required to demonstrate improvement in at least four of the six benchmark areas. The SIR and subsequent MIECHV guidance documents for both competitive and formula grants also require that grantees report annually on the constructs under each benchmark area, as well as on demographic, service utilization, budgetary and other administrative data related to program implementation.

The proposed data collection and reporting forms were initially developed by an internal MIECHV workgroup in consultation with evidence-based home visiting model developers and selected grantees and further refined based on comments received during the previous 60-day public comment period. The data collected with the proposed forms will be used to track grantees' progress in demonstrating improvement under each benchmark area and provide an overall picture of the population being served. The proposed data collection forms are as follows:

Home Visiting Form 1—Demographic and Service Utilization Data for Enrollees and Children

This form will be utilized by all MIECHV program grantees (including Tribal program grantees) and will collect data to determine the unduplicated number of participants and of participant groups by primary insurance coverage. This form will also request data on the demographic characteristics of program participants as well as service utilization data.

Home Visiting Form 2—Grantee Performance Measures

States, the District of Columbia, and territories participating in the MIECHV program have already selected relevant performance indicators for the legislatively identified benchmark areas. This form provides a template for these jurisdictions and non-profit grantees implementing home visiting programs to report aggregate data on their already selected and approved performance measures.

While there will be variation in the data collection and reporting burden to grantees based on the number of families served and data system capabilities, the annual estimate of burden is as follows:

Reporting document | Annual number of respondents | Number of responses per respondent | Total responses | Average burden hours per response | Total burden hours
HV Form 1: Demographic and Service Utilization Data for Enrollees and Children | ¹ 81 | 1 | 81 | 731 | 59,211
HV Form 2: Grantee Performance Measures | ² 56 | 1 | 56 | 313 | 17,528
Total | 81 |  | 81 |  | 76,739
¹ In addition to 56 jurisdictions and non-profit organizations, it is estimated that up to 25 Tribal MIECHV program grantees will utilize Form 1 to report on demographic and service utilization data for all participant families.
² Does not include Tribal program grantees.

Written comments and recommendations concerning the proposed information collection should be sent within 30 days of this notice to the desk officer for HRSA, either by email to OIRA_submission@omb.eop.gov or by fax to 202-395-5806. Please direct all correspondence to the “attention of the desk officer for HRSA.”

Dated: August 6, 2012.
Wendy Ponton,
Director, Office of Management.

[FR Doc. 2012-19665 Filed 8-9-12; 8:45 am]

BILLING CODE 4165-15-P